DEPARTMENT OF DEFENSE

Department of the Army

Intent To Grant an Exclusive License

AGENCY: Department of the Army, DoD.

ACTION: Notice.

SUMMARY: In accordance with 35 U.S.C. 209(e) and 37 CFR 404.7(a)(l)(i), announcement is made of the intent to grant an exclusive, royalty-bearing, revocable license for the U.S. Patent Application listed below to ICET, Inc. with its principal place of business at 916 Pleasant Street, Unit 12, Norwood, Massachusetts 02062.

FOR FURTHER INFORMATION CONTACT: Mr. Robert Rosenkrans at U.S. Army Soldier and Biological Chemical Command, Kansas Street, Natick, MA 01760, Phone; (508) 233-4928 or E-mail: Robert.Rosenkrans@natick.army.mil.

DATES: File written objections by December 17, 2003.

SUPPLEMENTARY INFORMATION: The exclusive license will be royalty bearing and will comply with the terms and conditions of 35 U.S.C. 209 and 37 CFR 404.7. The exclusive licenses may be granted, unless within fifteen (15) days from the date of this published notice, SBCCOM receives written evidence and argument to establish that the grant of the license would not be consistent with the requirements of 35 U.S.C. 209 and 37 CFR 404.7. The following Patent Application Number, Title and File date are provided:

Patent Application: 09/886,613.

Title: “Material Compositions for Microbial and Chemical Protection.”

Filed: June 21, 2001.

Luz D. Ortiz,
Army Federal Register Liaison Officer.

[FR Doc. 03-29979 Filed 12-1-03; 8:45 am]

BILLING CODE 3710-08-M